DEPARTMENT OF DEFENSE

Department of the Navy

Notice of Meeting of the Board of Visitors of Marine Corps University

AGENCY: Department of the Navy, DoD.

ACTION: Notice.

SUMMARY: The Board of Visitors of the Marine Corps University (BOV MCU) will meet the Marine Corps University Foundation members to create a working relationship in order to further the growth of the Marine Corps University. All sessions of the meeting will be open to the public.

DATES: The meeting will be held on Friday, March 20, 2009, from 9 a.m. to 4:30 p.m.

ADDRESSES: The meeting will be held at the Sheraton Premier Hotel. The address is: 8661 Leesburg Pike at Tyson's Corner, Vienna, VA 22182.

FOR FURTHER INFORMATION CONTACT: Ms. Davi Michelle Richardson, Faculty Development Coordinator, Marine Corps University Board of Visitors, 2076 South Street, Quantico, Virginia 22134, telephone number: 703-784-2884.

Dated: February 18, 2009.
A.M. Vallandingham,
Lieutenant Commander, Judge Advocate General's Corps, U.S. Navy, Federal Register Liaison Officer.

[FR Doc. E9-4096 Filed 2-25-09; 8:45 am]

BILLING CODE 3810-FF-P